DEPARTMENT OF ENERGY

Energy Information Administration

Agency Information Collection Extension With Changes

AGENCY: U.S. Energy Information Administration (EIA), Department of Energy (DOE).

ACTION: Notice and request for comments.

SUMMARY: EIA invites public comment on the proposed three year extension, with changes, to Form EIA-846 Manufacturing Energy Consumption Survey Report as required under the Paperwork Reduction Act of 1995. The report is part of EIA's comprehensive energy data program. Form EIA-846 Manufacturing Energy Consumption Survey Report (Quadrennial) collects information on energy consumption, expenditures, and building characteristics from establishments in the manufacturing sector.

DATES: EIA must receive all comments on this proposed information collection no later than May 2, 2022. If you anticipate any difficulties in submitting your comments by the deadline, contact the person listed in the ADDRESSES section of this notice as soon as possible.

ADDRESSES: Mail comments to Tom Lorenz, U.S Energy Information Administration, EI-22, 1000 Independence Avenue SW, Washington, DC 20585. Submit comments electronically to Thomas.Lorenz@eia.gov.

FOR FURTHER INFORMATION CONTACT: Tom Lorenz by phone at (202) 586-3442, or by email at Thomas.Lorenz@eia.gov. The forms and instructions of EIA-846 Manufacturing Energy Consumption Survey are available on EIA's website at www.eia.gov/survey/.

SUPPLEMENTARY INFORMATION: Comments are invited whether or not: (a) The proposed collection of information is necessary for the proper performance of agency functions, including whether the information will have a practical utility; (b) EIA's estimate of the burden of the proposed collection of information, including the validity of the methodology and assumptions used, is accurate; (c) EIA can improve the quality, utility, and clarity of the information it will collect; and (d) EIA can minimize the burden of the collection of information on respondents, such as automated collection techniques or other forms of information technology.

This information collection request contains:

(1) OMB No.: 1905-0169;

(2) Information Collection Request Title: Manufacturing Energy Consumption Survey (MECS);

(3) Type of Request: Extension with changes;

(4) Purpose: Form EIA-846, is a self-administered sample survey that collects energy consumption and expenditures data from establishments in the manufacturing sector; i.e., North American Industry Classification System (NAICS) sector codes 31-33. The information from this survey is used to publish aggregate statistics on the energy consumption of the manufacturing sector including energy used for fuel and nonfuel purposes. The survey also gathers information on energy-related issues such as energy prices, on-site electricity generation, purchases of electricity from utilities and non-utilities, and fuel switching capabilities. MECS is also used to benchmark EIA's industry forecasting model and update changes in the energy intensity and greenhouse gases data series.

(4a) Proposed Changes to Information Collection: EIA proposes adding a few questions to the Energy Management section of Form EIA-846 requesting information on an establishment's average processing temperatures and the range of these temperatures across different processes within the establishment. The purpose of these questions is to assist in the measurement of energy efficiency and better understand its relation to the use of process heat across manufacturing industries, consistent with the Bipartisan Infrastructure Law (Infrastructure Investment and Jobs Act).

In addition, EIA proposes adding a few follow up questions to the Electricity: Generated Onsite section of Form EIA-846. The electricity generated onsite questions on Form EIA-846 request information about renewable energy sources, such as solar, wind, and geothermal, used to generate electricity onsite. The follow up questions EIA proposes to Form EIA-846 would request information about the use of electricity generated from renewable energy sources that may be shared across more than one establishment. The purpose of these questions is to better understanding the technology, equipment, and infrastructure that may be shared among manufacturing establishments. This change is consistent with the Bipartisan Infrastructure Law (Infrastructure Investment and Jobs Act).

EIA proposes adding these questions to the Form EIA-846; however cognitive testing on the questions will need to be conducted and question language may need to be adjusted for clarity.

(5) Annual Estimated Number of Respondents: 15,000;

(6) Annual Estimated Number of Total Responses: 3,750;

(7) Annual Estimated Number of Burden Hours: 34,565;

(8) Annual Estimated Reporting and Recordkeeping Cost Burden: $2,882,030 (34,565 annual burden hours multiplied by $83.38 per burden hour). EIA estimates that respondents will have no additional costs associated with the surveys other than burden hours;

Statutory Authority: 15 U.S.C. 772(b) and 42 U.S.C. 7101 et seq.

Signed in Washington, DC, on February 24, 2022.
Samson A. Adeshiyan,
Director, Office of Statistical Methods and Research, U. S. Energy Information Administration.

[FR Doc. 2022-04470 Filed 3-2-22; 8:45 am]

BILLING CODE 6450-01-P